DEPARTMENT OF JUSTICE

Antitrust Division

Notice Pursuant to the National Cooperative Research and Production Act of 1993—High-Performance Composite Molecular Sieving Membranes

Notice is hereby given that, on June 26, 2000, pursuant to Section 6(a) of the National Cooperative Research and Production Act of 1993, 15 U.S.C. 4301 et seq. (“the Act”) Membrane Separation Systems DuPont Air Liquide (“MEDAL”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are MEDAL L.P., Newport, DE; and Chevron Research and Technology Company, Richmond, CA. The nature and objectives of the venture are to conduct research on “High-Performance Composite Molecular Sieving Membranes” for the separation of gases and liquids.

Constance K. Robinson,
Director of Operations, Antitrust Division.

[FR Doc. 00-20149 Filed 8-8-00; 8:45 am]

BILLING CODE 4410-11-M